DEPARTMENT OF COMMERCE

National Oceanic and Atmospheric Administration

Final Approval of Amendment No. 3 to the New Hampshire Coastal Program

AGENCY: Office of Ocean and Coastal Resource Management, National Ocean Service (NOS), National Oceanic and Atmospheric Administration (NOAA), DOC.

ACTION: Approval of the amendment to the New Hampshire Coastal Program.

SUMMARY: The NOAA Office of Ocean and Coastal Resource Management (OCRM) received a request from the State of New Hampshire to revise the New Hampshire Coastal Program (NHCP) inland coastal boundary. The State's request was made pursuant to section 306(d) of the Coastal Zone Management Act (CZMA) of 1972, as amended and OCRM's regulations (15 CFR part 923, subpart H). The expanded NHCP inland coastal boundary includes the full geographic jurisdiction of the State's 17 coastal municipalities. The NHCP boundary revision expands the State's coastal management boundary from its current, narrower delineation of a two-tier geographical system related to distance from the coastal water body features, to encompassing the entire jurisdiction of the 17 coastal municipalities.

Notice is hereby given that the Chief of the Coastal Programs Division (CPD) has reviewed the amendment request and has made a determination that the NHCP as amended will still constitute an approvable program and that the procedural requirements of section 306(d) of the CZMA have been met.

On November 7, 2002, the State published in the Portsmouth Herald a notice proposing to amend the NHCP inland coastal boundary and the date of the public hearing. Interested parties had until February 11, 2003, to submit comments to CPD. No comments were received. The State responded to all comments received at the public hearing and on March 7, 2003, OCRM received the State's response to comments with the amendment.

Notice of availability of the draft environmental assessment (EA) and proposed Finding of No Significant Impact (FONSI) was published in the Federal Register on Thursday, October 23, 2003 (volume 68, number 205), and interested parties had until November 24, 2003, to submit comments. The draft EA and proposed FONSI was made available on the NOAA Web or upon request. No comments were received and final findings of approvability were approved by the Assistant Administrator. This amendment is now officially part of the federally-approved New Hampshire Coastal Program.

FOR FURTHER INFORMATION CONTACT: Mr. William O'Beirne, Coastal Programs Division, Office of Ocean and Coastal Resource Management, NOS/NOAA, 1305 East-West Highway, N/ORM3, 11th Floor, Silver Spring, MD 20910, 301-713-3155, extension 160, or e-mail at bill.o'beirne@noaa.gov.

(Federal Domestic Assistance Catalog 11.419, Coastal Zone Management Program Administration.)
Dated: February 6, 2004.
Jamison S. Hawkins,
Deputy Assistant Administrator for Ocean Services and Coastal Zone Management.

[FR Doc. 04-3046 Filed 2-11-04; 8:45 am]

BILLING CODE 3510-08-P